FEDERAL HOUSING FINANCE BOARD

[No. 2006-N-01]

Submission for OMB Review; Comment Request

AGENCY: Federal Housing Finance Board.

ACTION: Notice.

SUMMARY: In accordance with the requirements of the Paperwork Reduction Act of 1995, the Federal Housing Finance Board (Finance Board) has submitted the information collection entitled “Community Support Requirements” to the Office of Management and Budget (OMB) for review and approval of a 3 year extension of the OMB control number, 3069-0003, which is due to expire on February 28, 2006.

DATES: Interested persons may submit comments on or before February 16, 2006.

ADDRESSES: Submit comments to the Office of Information and Regulatory Affairs of the Office of Management and Budget, Attention: Desk Officer for the Federal Housing Finance Board, Washington, DC 20503.

For Further Information or Copies of the Information Collection Contact: Emma Fitzgerald, Program Analyst, Office of Supervision, by telephone at 202-408-2874, by electronic mail at fitzgeralde@fhfb.gov, or by regular mail at the Federal Housing Finance Board, 1625 Eye Street, NW., Washington, DC 20006.

SUPPLEMENTARY INFORMATION:

A. Need for and Use of the Information Collection

Section 10(g)(1) of the Federal Home Loan Bank Act (Bank Act) requires the Finance Board to promulgate regulations establishing standards of community investment or service that Federal Home Loan Bank (FHLBank) members must meet in order to maintain access to long-term advances. See 12 U.S.C. 1430(g)(1). In establishing these community support requirements for FHLBank members, the Finance Board must take into account factors such as the FHLBank member's performance under the Community Reinvestment Act of 1977 (CRA), 12 U.S.C. 2901, et seq., and record of lending to first-time homebuyers. 12 U.S.C. 1430(g)(2).

Part 944 of the Finance Board regulations implements section 10(g) of the Bank Act. See 12 CFR part 944. The rule provides uniform community support standards all FHLBank members must meet and review criteria Finance Board staff must apply to determine compliance with section 10(g). More specifically, section 944.2 of the rule (12 CFR 944.2) implements the statutory community support requirement and requires each member selected for review to submit a completed Community Support Statement Form to the Finance Board. A copy of the Community Support Statement Form is attached to this Notice. Section 944.3 (12 CFR 944.3) establishes community support standards for the two statutory factors—CRA and first-time homebuyer performance—and provides guidance to a respondent on how it may satisfy the standards. Sections 944.4 and 944.5 (12 CFR 944.4-5) establish the procedures and criteria the Finance Board uses in determining whether FHLBank members satisfy the statutory and regulatory community support requirements.

The information collection contained in the Community Support Statement Form and sections 944.2 through 944.5 of the rule is necessary to enable and is used by the Finance Board to determine whether FHLBank members satisfy the statutory and regulatory community support requirements. Only FHLBank members that meet these requirements may maintain continued access to long-term FHLBank advances. See 12 U.S.C. 1430(g).

The OMB number for the information collection is 3069-0003. The OMB clearance for the information collection expires on February 28, 2006. The likely respondents are institutions that are members of an FHLBank.

B. Burden Estimate

The Finance Board estimates the total annual average number of respondents at 5170 FHLBank members, with one response per member. The estimate for the average hours per response is one hour. The estimate for the total annual hour burden is 5170 hours (5170 members × 1 response per member × 1 hour).

C. Comment Request

In accordance with 5 CFR 1320.8(d), the Finance Board published a request for public comments regarding this information collection in the Federal Register on October 14, 2005. See 70 FR 60079 (October 14, 2005). The 60-day comment period closed on December 13, 2005. The Finance Board received no public comments.

Written comments are requested on: (1) Whether the collection of information is necessary for the proper performance of Finance Board functions, including whether the information has practical utility; (2) the accuracy of the Finance Board estimates of the burdens of the collection of information; (3) ways to enhance the quality, utility and clarity of the information collected; and (4) ways to minimize the burden of the collection of information on applicants and housing associates, including through the use of automated collection techniques or other forms of information technology. Comments may be submitted to OMB in writing at the address listed above.

Dated: January 10, 2006.
By the Federal Housing Finance Board.
John P. Kennedy,
General Counsel.

BILLING CODE 6725-01-P

[FR Doc. 06-365 Filed 1-13-06; 8:45 am]

BILLING CODE 6725-01-C